DEPARTMENT OF ENERGY

Federal Energy Regulatory Commission

Combined Notice of Filings

Take notice that the Commission has received the following Natural Gas Pipeline Rate and Refund Report filings:

Docket Number: PR20-70-000.

Applicants: Regency Intrastate Gas LP.

Description: Tariff filing per 284.123(b)(2)+(: Regency Intrastate Gas LP Petition for Rate Approval and Revised SOC to be effective 6/2/2020.

Filed Date: 7/2/2020.

Accession Number: 202007025067.

Comments/Protests Due: 5 p.m. ET 7/23/2020.

Docket Numbers: RP20-1006-000.

Applicants: Gulf South Pipeline Company, LLC.

Description: Section 4(d) Rate Filing: Cap Rel Neg Rate Agmt (Marathon 51754 to ConocoPhillips 52929) to be effective 7/1/2020.

Filed Date: 7/2/20.

Accession Number: 20200702-5069.

Comments Due: 5 p.m. ET 7/14/20.

Docket Numbers: RP20-1007-000.

Applicants: Dominion Energy Cove Point LNG, LP.

Description: Compliance filing DECP—2020 Penalty Revenue Distribution.

Filed Date: 7/2/20.

Accession Number: 20200702-5098.

Comments Due: 5 p.m. ET 7/14/20.

Docket Numbers: RP20-1008-000.

Applicants: Rover Pipeline LLC.

Description: Section 4(d) Rate Filing: Reservation Charge Credit GTC 25 Clarification to be effective 8/2/2020.

Filed Date: 7/2/20.

Accession Number: 20200702-5155.

Comments Due: 5 p.m. ET 7/14/20.

Docket Numbers: RP20-1009-000.

Applicants: Dominion Energy Transmission, Inc.

Description: Compliance filing DETI—2020 Overrun and Penalty Revenue Distribution.

Filed Date: 7/2/20.

Accession Number: 20200702-5163.

Comments Due: 5 p.m. ET 7/14/20.

Docket Numbers: RP20-1010-000.

Applicants: West Texas Gas, Inc.

Description: Annual Purchased Gas Cost Reconciliation Report of West Texas Gas, Inc. under RP20-1010.

Filed Date: 7/1/20.

Accession Number: 20200701-5530.

Comments Due: 5 p.m. ET 7/13/20.

Docket Numbers: RP20-1011-000.

Applicants: Viking Gas Transmission Company.

Description: Section 4(d) Rate Filing: Compliance Filing to Implement Revised Tariff Records to be effective 8/1/2020.

Filed Date: 7/2/20.

Accession Number: 20200702-5228.

Comments Due: 5 p.m. ET 7/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 7, 2020.
Nathaniel J. Davis, Sr.,
Deputy Secretary.

[FR Doc. 2020-15042 Filed 7-14-20; 8:45 am]

BILLING CODE 6717-01-P